DEPARTMENT OF THE INTERIOR

Bureau of Land Management

[LLWY920000.14400000.ET0000.223; WYW-172386]

Notice of Application for Permanent Withdrawal and Transfer of Jurisdiction, Wyoming

AGENCY: Bureau of Land Management, Interior.

ACTION: Notice.

SUMMARY: The Department of Energy, Office of Legacy Management (DOE-LM) has filed an application with the Bureau of Land Management (BLM) requesting that the Secretary of the Interior exercise authority under Title II of the Uranium Mill Tailings Radiation Control Act of 1978 (UMTRCA) and permanently withdraw and transfer administrative jurisdiction to DOE-LM of 869.08 acres of public lands and 3,454.39 acres of Federal mineral estate at the Split Rock Site in Wyoming. The public land and interests in the land would be withdrawn from operation of the general land laws, including the United States mining laws, the mineral and geothermal leasing laws, and the mineral materials disposal laws, subject to valid existing rights, and would be transferred to DOE-LM for long term maintenance and monitoring under a Nuclear Regulatory Commission license as part of the Split Rock Disposal Cell Site. The BLM previously published notice of a DOE-LM application for withdrawal and transfer of jurisdiction for some of these lands and minerals for the same purpose in the Federal Register on April 14, 2008 (73 FR 20062-63). This notice announces a 30-day opportunity for the public to comment on the DOE-LM application.

DATES: Comments must be received on or before December 23, 2022.

ADDRESSES: Comments should be sent to BLM Wyoming State Director, BLM Wyoming State Office, 5353 Yellowstone Road, Cheyenne, WY 82009.

FOR FURTHER INFORMATION CONTACT: Keesha Clay, Realty Specialist, BLM Wyoming State Office, (307) 775-6189, during regular business hours 8:00 a.m. to 4:30 p.m., Monday through Friday, except holidays. Individuals in the United States who are deaf, deafblind, hard of hearing, or have a speech disability may dial 711 (TTY, TDD, or TeleBraille) to access telecommunications relay services for contacting Ms. Clay. Individuals outside the United States should use the relay services offered within their country to make international calls to the point-of-contact in the United States.

SUPPLEMENTARY INFORMATION: The DOE-LM filed with the BLM an application that requests the Secretary of the Interior to permanently withdraw and transfer administrative jurisdiction over the following described public lands and federally owned minerals, subject to valid existing rights. DOE-LM has requested that the land and minerals be withdrawn from location and entry under the United States mining laws, from leasing under the mineral or geothermal leasing laws, and from disposal under the mineral materials laws, subject to valid existing rights. Under the UMTRCA, as amended by the Uranium Mill Tailings Remedial Action Amendments Act of 1988 (42 U.S.C. 7916), the Secretary of the Interior may make such permanent withdrawals and transfers of administrative jurisdiction. The Secretary's actions under UMTRCA are explicitly exempt from the withdrawal and transfer provisions of Section 204 of the Federal Land Policy and Management Act of 1976, as amended. The following legal land description includes public lands and Federal mineral interest underlying non-Federal surface estate in both the new application and the 2008 application. The public lands and Federal mineral estate are requested for permanent withdrawal and jurisdictional transfer for long term maintenance and monitoring by DOE-LM under applicable provisions of UMTRCA:

Public Lands

Sixth Principal Meridian, Wyoming

T. 29 N., R. 91 W.,

Sec. 6, lots 8 thru 13 and E1/2SE1/4;

Sec. 7, N1/2NE1/4;

Sec. 8, NW1/4NW1/4.

T. 29 N., R. 92 W.,

Sec. 1, lots 1 and 2, S1/2NE1/4, and SE1/4SE1/4;

Sec. 2, SE1/4SW1/4 and SW1/4SE1/4;

Sec. 11, NW1/4NE1/4 and NE1/4NW1/4;

Sec. 12, W1/2NE1/4.

The areas described aggregate 869.08 acres of surface and Federal minerals.

Federal Mineral Interests Underlying Non-Federal Surface

T. 29 N., R. 91 W.

Sec. 5, S1/2;

Sec. 6, lot 5, SE1/4NW1/4, and SW1/4SE1/4;

Sec. 7, lots 1 thru 4, S1/2NE1/4, E1/2NW1/4, E1/2SW1/4, and SE1/4;

Sec. 8, E1/2NE1/4, SW1/4NW1/4, and W1/2SW1/4;

Sec. 18, lots 1 and 2 and E1/2NW1/4, those portions lying northerly of the northerly right-of-way boundary of U.S. Highway 287, as described on Document No. 2009-1328633, filed October 19, 2009, in the Fremont County Clerk's Office.

T. 29 N., R. 92 W.,

Sec. 1, lot 4, SW1/4, and W1/2SE1/4;

Sec. 2, SW1/4SW1/4, NE1/4SW1/4, N1/2SE1/4, and SE1/4SE1/4;

Sec. 3, E1/2SE1/4;

Sec. 10, E1/2SE1/4, that portion lying northerly of the northerly boundary of the Home on the Range Estates Subdivision, Document No. 970395, filed March 8, 1978, in the Fremont County Clerk's Office;

Sec. 11, NE1/4NE1/4, S1/2NE1/4, SE1/4NW1/4, and S1/2, except that portion of SW1/4SW1/4 within said Home on the Range Subdivision;

Sec. 12, E1/2NE1/4, NW1/4, and S1/2;

Sec. 13, N1/2;

Sec. 14, NE1/4 and NE1/4NW1/4.

The areas described aggregate approximately 3,454.39 acres of Federal minerals underlying non-Federal surface.

The purpose of the requested withdrawal and transfer of administrative jurisdiction is to allow the DOE-LM to administer the lands in perpetuity as a hazardous material site under the authority of the UMTRCA of 1978, 42 U.S.C. 7902 et seq.

For a period until December 23, 2022, all persons who wish to submit comments, suggestions, or objections in connection with the DOE-LM application may present their views in writing to the BLM Wyoming State Office at the address listed in the ADDRESSES section above. Records related to the applications may be examined by contacting the BLM Wyoming State Office at the address listed in the ADDRESSES section above. The BLM is preparing an environmental assessment under the National Environmental Policy Act in connection with the requested withdrawal and jurisdictional transfer. On January 28, 2022, the BLM posted a project description for DOI-BLM-WY-R050-2022-0009-EA on its ePlanning site at eplanning.blm.gov/eplanning-ui/project/2017709/510.

Your comments, including your name and street address, will be available for public review at the BLM Wyoming State Office during regular business hours 8:00 a.m. to 4:30 p.m. Monday through Friday, except Federal holidays. Before including your address, phone number, email address, or other personal identifying information in your comment, you should be aware that your entire comment—including your personal identifying information—may be made publicly available at any time. While you can ask us in your comment to withhold your personal identifying information from public review, we cannot guarantee that we will be able to do so.

DOE-LM has acknowledged that segments of four National Historic Trails are present within the project area. The transfer of administrative jurisdiction would not invalidate or revoke the congressionally designated alignments of the National Historic Trail across the property, and trail wide administration would continue to be coordinated by the National Park Service.

(Authority: 42 U.S.C. 7916).

Andrew Archuleta,
BLM Wyoming State Director.

[FR Doc. 2022-25520 Filed 11-22-22; 8:45 am]

BILLING CODE 6450-01-P